DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of February 14, 2011 through February 18, 2011.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
74,339 | Sitel Operating Corporation, Sitel Worldwide Corporation | Memphis, TN | July 1, 2009.
74,713 | Chii, DBA Lifetime Coatings, Manpower | Quincy, IL | September 20, 2009.
74,974 | TI Automotive, Leased Workers from Manpower, Aerotek, and Spherion | Chesterfield, MI | December 5, 2009.
75,048 | Premier Technical Plastics, Leased Workers from Manpower | Minden, LA | December 23, 2009.
75,168 | Hearth and Home Technologies, Inc | Colville, WA | January 28, 2010.

The following certifications have been issued. The requirements of Section 222(a)(2)(B) (shift in production or services) of the Trade Act have been met.

TA-W No. | Subject firm | Location | Impact date
74,745 | Continental Graphics Corporation, CDG Datagraphics; The Boeing Company; Leased Workers Excell and Harvey Nash | Bellevue, WA | October 15, 2009.
74,751 | Eaton Corporation, Clutch Division | Auburn, IN | October 6, 2009.
74,812 | Heraeus Noblelight de Puerto Rico, Inc | Cayey, PR | October 28, 2009.
74,813 | Eastman Kodak Company (GCG), Electrographic Print Solutions; Leased Workers from Adecco and Datrose | Spencerport, NY | October 29, 2009.
74,901 | Hawker Beechcraft Corporation, Hawker Beachcraft International SVC, Rapid Surplus Parts, etc | Wichita, KS | November 11, 2009.
75,006 | EMD Serono Biotech Center, Inc., EMD Serono Research Institute, On Assignment Lab Support & Randstad | Billerica, MA | December 15, 2009.
75,017 | Nokia, Inc., Nokia Group, ATC Logistics and Electronics | Fort Worth, TX | December 17, 2010.
75,039 | Auto-trol Technology Corporation, Coretechs | Westminster, CO | December 21, 2009.
75,058 | Electrolux Home Care Products, Inc., Electrolux Central Vacuum Systems; AB Electrolux | Webster City, IA | February 24, 2011.
75,058A | Manpower, Electrolux Home Care Products, Inc | Webster City, IA | December 24, 2009.
75,086 | Callaway Golf Company, Operations Division, Volt Services Group | Carlsbad, CA | January 10, 2010.
75,094 | Alstyle Apparel, Ennis, Inc | Anaheim, CA | January 12, 2010.
75,103 | Sun Mountain Sports, Inc., Plastic Injection Molding Division; Leased Workers from Labor Ready | Missoula, MT | January 11, 2010.
75,110 | Propex Operating Company, LLC, Leased Workers from The Pollard Agency and PFMI | Hazlehurst, GA | January 18, 2010.
75,111 | Affiliated Computer Services, Inc., Human Capital Management Colustions Unit, Xerox Corp | Schaumburg, IL | January 18, 2010.
75,126 | Blue Cross Blue Shield of North Carolina, Commercial and Government Operations Division; Leased Workers Manpower, etc | Durham, NC | December 20, 2009.
75,137 | John Crane, Inc | Cranston, RI | January 24, 2010.
75,147 | Elkay Manufacturing | Broadview, IL | January 28, 2010.
75,171 | Dex One, West Division, Advantage XPO | Tucson, AZ | February 2, 2010.
75,171A | Dex One, West Division, Advantage XPO | Colorado Springs, Englewood, CO | February 2, 2010.
75,171B | Dex One, West Division, Advantage XPO | West Des Moines, IA | February 2, 2010.
75,171C | Dex One, West Division, Advantage XPO | Maple Grove, MN | February 2, 2010.
75,171D | Dex One, West Division, Advantage XPO | Albuquerque, NM | February 2, 2010.
75,171E | Dex One, West Division, Advantage XPO | Spokane, Tacoma and Vancouver, WA | February 2, 2010.
75,172 | Dex One, East Division, Advantage XPO | Fort Myers, Maitland and Ocala, FL | February 2, 2010.
75,172A | Dex One, East Division, Advantage XPO | Arlington Heights, Chicago, Lombard, etc., IL | February 2, 2010.
75,172B | Dex One, East Division, Advantage XPO | Fayetteville and Morrisville, NC | February 2, 2010.
75,172C | Dex One, East Division, Advantage XPO | Las Vegas, NV | February 2, 2010.
75,172D | Dex One, East Division, Advantage XPO | Carlisle and Dunmore, PA | February 2, 2010.
75,172E | Dex One, East Division, Advantage XPO | Bristol, TN | February 2, 2010.
75,176 | Lynx Medical Systems, Coding Services Div., Ingenix, Wages Previously Under FEIN 91-1263758 | Bellevue, WA | February 3, 2010.
75,178 | Simpson Door Company, Simpson Investment Company | McCleary, WA | December 20, 2010.
75,180 | Contract Pharmaceuticals Limited Niagra (CPL Niagra), SPS Temporaries and Imagine Staffing | Buffalo, NY | February 4, 2010.
75,192 | Core Industries, Inc., d/b/a Star Trac, Aerotek, Helpmates, Mattson & Empire Staffing | Irvine, CA | February 8, 2010.
75,244 | Carrier Air Conditioning, United Technologies Corporation, Commercial Divisions | Tyler, TX | January 27, 2011.

The following certifications have been issued. The requirements of Section 222(c) (supplier to a firm whose workers are certified eligible to apply for TAA) of the Trade Act have been met.

TA-W No. | Subject firm | Location | Impact date
74,865 | Johnson Controls, Inc., Working On-Site at Hewlett Packard Company | Corvallis, OR | November 9, 2009.
75,033 | Indianapolis Metal Center, General Motors, Wages Previously Under Fein 38-0572515, Aerotek etc | Indianapolis, IN | December 20, 2009.
75,227 | Dana Structural Manufacturing LLC, Structures Division; Leased Workers from Manpower | Longview, TX | February 10, 2010.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W No. | Subject firm | Location | Impact date
75,053 | C. Fassinger & Sons Mfg. Co., LLC | New Castle, PA. |
75,107 | Hewlett Packard Company, Global Business Intelligence Unit | Fort Collins, CO. |

The investigation revealed that the criteria under paragraphs(a)(2)(A) (increased imports) and (a)(2)(B) (shift in production or services to a foreign country) of section 222 have not been met.

TA-W No. | Subject firm | Location | Impact date
73,718 | Medica | Minnetonka, MN. |
74,254 | National Carton & Coating Company, Leased Workers from CBS/Staffmark | Xenia, OH. |
74,634 | A. H. Schreiber Company, Inc. | Bristol, TN. |
74,706 | Busch Agricultural Resources, LLC, Anheuser-Busch, Inc. | Manitowoc, WI. |
74,756 | Fort McDowell Yavapai Materials, Plants 1, 3 and 20 | Fort McDowell, AZ | September 27, 2009.
74,756A | Fort McDowell Yavapai Materials, Plants 4 and 70 | Buckeye, AZ | September 27, 2009.
74,756B | Fort McDowell Yavapai Materials, Plant 40 | Scottsdale, AZ | September 27, 2009.
74,756C | Fort McDowell Yavapai Materials, Plant 50 | Glendale, AZ | September 27, 2009.
74,756D | Fort McDowell Yavapai Materials, Plant 60 | Queen Creek, AZ | September 27, 2009.
74,772 | HEITEC, Inc., Including Workers Wages that are Reported Under Hacker Engineering, Inc | Palm Desert, CA. |
75,027 | K.W.S., Inc. | Cheboygan, MI. |

The investigation revealed that the criteria under paragraphs (b)(2) and (b)(3) (public agency acquisition of services from a foreign country) of section 222 have not been met.

TA-W No. | Subject firm | Location | Impact date
74,979 | City of Walla Walla, Development Services Department | Walla Walla, WA. |

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
74,853 | Kurz-Kasch | South Boston, VA |

The following determinations terminating investigations were issued because the petitioning groups of workers are covered by active certifications. Consequently, further investigation in these cases would serve no purpose since the petitioning group of workers cannot be covered by more than one certification at a time.

TA-W No. | Subject firm | Location | Impact date
74,438 | Bruss North America, Inc. | Orion, MI. |
74,978 | Western Union, LLC, Operations Division | St. Charles, MO. |

The following determinations terminating investigations were issued because the petitions are the subject of ongoing investigations under petitions filed earlier covering the same petitioners.

TA-W No. | Subject firm | Location | Impact date
75,187 | Dex One | Morrisville, NC. |

I hereby certify that the aforementioned determinations were issued during the period of February 14, 2011 through February 18, 2011. Copies of these determinations may be requested under the Freedom of Information Act. Requests may be submitted by fax, courier services, or mail to FOIA Disclosure Officer, Office of Trade Adjustment Assistance (ETA), U.S. Department of Labor, 200 Constitution Avenue, NW., Washington, DC 20210 or to foiarequest@dol.gov. These determinations also are available on the Department's Web site at http://www.doleta.gov/tradeact under the searchable listing of determinations.

Dated: March 2, 2011.
Michael W. Jaffe,
Certifying Officer, Office of Trade Adjustment Assistance.

[FR Doc. 2011-5475 Filed 3-9-11; 8:45 am]

BILLING CODE 4510-FN-P